DEPARTMENT OF THE INTERIOR

National Park Service

[NPS-WASO-HAFE-NPS0034737; PPWOWMADL3, PPMPSAS1Y.TD0000 (222); OMB Control Number 1024-0284]

Agency Information Collection Activities; Submission to the Office of Management and Budget for Review and Approval; National Park Service Common Learning Portal

AGENCY: National Park Service, Interior.

ACTION: Notice of information collection; request for comment.

SUMMARY: In accordance with the Paperwork Reduction Act of 1995, we, the National Park Service (NPS) are proposing to renew an information collection.

DATES: Interested persons are invited to submit comments on or before March 13, 2023.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0284” in the subject line of your comments.

FOR FURTHER INFORMATION CONTACT: To request additional information about this ICR, contact Ryan Jennings, Program Manager, Distance Learning Group, Office of Learning and Development; at ryan_jennings@nps.gov (email), or 304-535-5057 (telephone). Please reference OMB Control Number 1024-0284 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 11, 2022 (87 FR 14035). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS is authorized by Service Employee Training (54 U.S.C. 101321) and Management Development and Training (54 U.S.C. 101322) in maintaining the Common Learning Portal (CLP) as an online training platform for NPS employees and public users. The CLP website serves as a centralized repository of training programs offered by the NPS and increases the visibility of training available for participating users. The CLP serves as a common platform for advertising national, regional, and park-specific training events to NPS employees. The CLP also establishes communities of practice using interest groups and forums in order to increase engagement throughout the NPS training community. Users may visit the CLP to learn about upcoming training events without creating a user account. However, to participate in community forum discussions, users must provide the following information to register and create an account:

• Name

• Email address

• Username

Once registered, the user will have the option to provide additional information including:

• Photo

• Title, location, expertise

• Duties, and

• Additional personal information such as hobbies or activities.

The information collected by the CLP is used to register non-NPS users, allowing the public to interact with training programs offered by the platform. To store the information collected, this system utilizes the following SORN: DOI-16, Learning Management System—October 9, 2018, 83 FR 50682. All personal information, with the exception of name and email address, are optional.

Title of Collection: National Park Service Common Learning Portal.

OMB Control Number: 1024-0284.

Form Number: None.

Type of Review: Extension of a currently approved collection.

Respondents/Affected Public: Individuals (non-federal employees).

Total Estimated Number of Annual Respondents: 400.

Total Estimated Number of Annual Responses: 400.

Estimated Completion Time per Response: 5 minutes.

Total Estimated Number of Annual Burden Hours: 33.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-02768 Filed 2-8-23; 8:45 am]

BILLING CODE 4312-52-P